DEPARTMENT OF EDUCATION

34 CFR Subtitle B, Chapter II

[Docket ID ED-2009-OESE-0006]

RIN 1810-AB07

Race to the Top Fund

AGENCY: Department of Education.

ACTION: Final priorities, requirements, definitions, and selection criteria; correction.

SUMMARY: On November 18, 2009, the Department of Education published a document in the Federal Register announcing final priorities, requirements, definitions, and selection criteria (“Final Rule”) for the Race to the Top Fund. Included as Appendix B to the November 18 Final Rule was the Scoring Rubric that the Department developed for the scoring of State applications submitted under this program. This document makes several corrections to Appendix B to the November 18 Final Rule.

DATES: Effective Date: January 27, 2010.

FOR FURTHER INFORMATION CONTACT: James Butler, U.S. Department of Education, 400 Maryland Avenue, SW., room 3E108, Washington, DC 20202-6400. Telephone: (202) 205-37705 or by e-mail: racetothetop@ed.gov.

If you use a telecommunications device for the deaf (TDD), call the Federal Relay Service (FRS), toll free, at 1-800-877-8339.

Individuals with disabilities can obtain this document in an accessible format (e.g., braille, large print, audiotape, or computer diskette) on request to the contact listed in this section.

SUPPLEMENTARY INFORMATION:

Correction

Appendix B to the November 18 Final Rule (74 FR 59688) provided a scoring rubric containing a rubric and allocation of point values that peer reviewers will use to score applications from States under the Race to the Top Fund. Appendix B contained several errors that we are correcting in this notice.

First, the chart on pages 59814 and 59815 omitted certain maximum point values for the selection criteria. The corrected chart provided in this notice includes new rows for point values 6, 8, and 28. It does not change any of the previously published rows.

Second, in several instances throughout Appendix B, in providing General Reviewer Guidance for certain of the selection criteria, we refer reviewers to application requirement (d) (Current Status and Evidence) when the reference should not have been included or the reference should have been to application requirement (e) (Plan for Use of Funds).

Finally, there was an error in the “Reviewer Guidance Specific to Criterion (F)(2)(iii)” on page 59825. We incorrectly stated both that “low” points would be awarded if a State does not have a charter school law and that no points are earned if the State has no charter school law. The reference to “low” points being awarded if a State does not have a charter school law was incorrect.

To correct these errors, the Department makes the following corrections to the November 12 Final Rule:

1. On pages 59814 and 59815, the chart is removed and replaced with the following chart:

Maximum point value | Quality of applicant's response: Low | Quality of applicant's response: Medium | Quality of applicant's response: High
45 | 0-12 | 13-33 | 34-45
40 | 0-10 | 11-29 | 30-40
35 | 0-9 | 10-25 | 26-35
30 | 0-8 | 9-21 | 22-30
28 | 0-8 | 9-20 | 21-28
25 | 0-7 | 8-18 | 19-25
21 | 0-5 | 6-15 | 16-21
20 | 0-5 | 6-14 | 15-20
15 | 0-4 | 5-10 | 11-15
14 | 0-4 | 5-9 | 10-14
10 | 0-2 | 3-7 | 8-10
8 | 0-2 | 3-5 | 6-8
7 | 0-2 | 3-4 | 5-7
6 | 0-1 | 2-3 | 4-6
5 | 0-1 | 2-3 | 4-5

2. On page 59815, under the heading “General Reviewer Guidance for (A)(1),” “, and to the elements of a high-quality plan as set forth in application requirement (d)” is removed.

3. On page 59816, under the heading “General Reviewer Guidance for (A)(2),” “application requirement (d)” is replaced with “application requirement (e)”.

4. On page 59819, under the heading “General Reviewer Guidance for (B)(3),” “application requirement (d)” is replaced with “application requirement (e)”.

5. On page 59819, under the heading “General Reviewer Guidance for (C)(2),” “application requirement (d)” is replaced with “application requirement (e)”.

6. On page 59820, under the heading “General Reviewer Guidance for (C)(3),” “application requirement (d)” is replaced with “application requirement (e)”.

7. On page 59821, under the heading “General Reviewer Guidance for (D)(2),” “application requirement (d)” is replaced with “application requirement (e)”.

8. On page 59822, under the heading “General Reviewer Guidance for (D)(3),” “application requirement (d)” is replaced with “application requirement (e)”.

9. On page 59822, under the heading “General Reviewer Guidance for (D)(4),” “application requirement (d)” is replaced with “application requirement (e)”.

10. On page 59822, under the heading “General Reviewer Guidance for (D)(5),” “application requirement (d)” is replaced with “application requirement (e)”.

11. On page 59823, under the heading “General Reviewer Guidance for (E)(2),” “application requirement (d)” is replaced with “application requirement (e)”.

12. On page 59825, under the heading “Reviewer Guidance Specific to (F)(2)(iii),” the third bulleted sentence that reads “ ‘Low’ points are earned if the per-pupil funding to charter school students is ≤79% of that which is provided to traditional public school students, or the State does not have a charter school law.” is removed and replaced with the following:

“Low” points are earned if the per-pupil funding to charter school students is ≤79% of that which is provided to traditional public school students.

Program Authority: The American Recovery and Reinvestment Act of 2009, Division A, Section 14006, Public Law 111-5.

Electronic Access to This Document

You may view this document, as well as all other Department of Education documents published in the Federal Register, in text or Adobe Portable Document Format (PDF) on the Internet at the following site: http://www.ed.gov/news/fedregister/index.html. To use PDF you must have Adobe Acrobat Reader, which is available free at this site.

Note: The official version of this document is the document published in the Federal Register. Free Internet access to the official edition of the Federal Register and the Code of Federal Regulations is available on GPO Access at: http://www.gpoaccess.gov/nara/index.html.

(Catalog of Federal Domestic Assistance Number 84.395A)

Dated: January 20, 2010.
Thelma Meléndez de Santa Ana,
Assistant Secretary for Elementary and Secondary Education.

[FR Doc. 2010-1502 Filed 1-26-10; 8:45 am]

BILLING CODE 4000-01-P